Title 3—

The President

Proclamation 9487 of September 9, 2016

National Hispanic-Serving Institutions Week, 2016

By the President of the United States of America

A Proclamation

Ensuring opportunity is within reach for everyone requires us to provide all our people with access to a world-class education. Higher education gives people a sense of who they are and sharpens how they see the world, and in our 21st-century economy, it is an investment that pays off—helping Americans work their way into the middle class. Across our country, Hispanic-Serving Institutions (HSIs) have helped Hispanic students—many of whom are the first in their family to go to college—earn a college degree. This week, we reflect on how these important institutions have helped Hispanic students reach for their dreams, and we reaffirm our commitment to supporting them for generations to come.

HSIs have given more Hispanics access to the resources and opportunities they need to compete in our economy. More than half of America's Hispanic undergraduates attend HSIs, which have played a critical role in increasing access to a college education and have worked to bolster enrollment, retention, and graduation rates. In the last several years, college enrollment among Hispanics hit a record high, and today, it continues to grow. Over the past two decades, the percentage of young Hispanics who have earned a college degree has increased significantly—but in that same time, disparities have persisted. HSIs are helping ensure more Hispanics have the opportunity to complete college, moving us closer to our goal of leading the world in higher education by 2020.

Hispanics are the largest and fastest growing minority group in America, and we must keep striving to ensure they can pursue an exceptional education. My Administration has sought to improve educational outcomes and opportunities for every American, including Hispanics through the White House Initiative on Educational Excellence for Hispanics. We have helped strengthen HSIs, which serve a higher proportion of low-income students than other institutions of higher education, by investing more than $1 billion in them over 10 years. Because college has never been more expensive, I have also taken steps to make it easier for more Americans to pay for higher education—steps that include expanding Pell Grants and offering tuition tax credits. And I am fighting for 2 years of free community college for any student willing to work for it, because no American should be priced out of a quality education.

The contributions of Hispanics have shaped our national narrative, and it is crucial to our success that we empower more Hispanics and young people across our country to thrive. For generations, HSIs have helped Hispanics earn college degrees, seek meaningful careers, and aspire to be anything they want. At the heart of our Nation is the idea that no matter where you come from or what you look like, if you are willing to work hard, you can make it in America. By expanding opportunities for all, we can bring more people closer to reaching their piece of the American dream.

NOW, THEREFORE, I, BARACK OBAMA, President of the United States of America, by virtue of the authority vested in me by the Constitution and the laws of the United States, do hereby proclaim September 12 through September 18, 2016, as National Hispanic-Serving Institutions Week. I call on public officials, educators, and all the people of the United States to observe this week with appropriate programs, ceremonies, and activities that acknowledge the many ways these institutions and their graduates contribute to our country.

IN WITNESS WHEREOF, I have hereunto set my hand this ninth day of September, in the year of our Lord two thousand sixteen, and of the Independence of the United States of America the two hundred and forty-first.

[FR Doc. 2016-22288

Filed 9-13-16; 11:15 am]

Billing code 3295-F6-P